DEPARTMENT OF TRANSPORTATION

Surface Transportation Board

[STB Finance Docket No. 35325]

CSX Transportation, Inc.—Trackage Rights Exemption—Illinois Central Railroad Company

Pursuant to a written trackage rights agreement, Illinois Central Railroad Company (IC) has agreed to grant limited overhead trackage rights to CSX Transportation, Inc. (CSXT),¹ over IC's line of railroad between: (1) The Decatur Street road crossing, at or near milepost 77.7, and milepost 76.7, on IC's Peoria Subdivision, including IC's connection with CSXT, a distance of approximately 1 mile; (2) milepost 30.5 and milepost 28.6 on IC's Peoria Subdivision (Green Switch Spur), a distance of approximately 1.9 miles; and (3) IC's lead track from its connection to the Green Switch Spur to IC's connection with the Archer Daniel Midland Company's Run-Around-Yard (ADM facilities) on IC's Peoria Subdivision, a distance of approximately 0.7 miles. The entire length of the lines is 3.6 miles, all in Decatur, IL. The trackage rights also include the use of: All sidings, yard tracks, and yard leads now existent or hereafter constructed along the tracks; and the right-of-way for the tracks to be used, signals, interlocking devices and plants, telegraph and telephone lines, and other appurtenances necessary to the use of the tracks.

¹ A redacted version of the trackage rights agreement between IC and CSXT was filed with the notice of exemption. The full version of the agreement, as required by 49 CFR 1180.6(a)(7)(ii), was concurrently filed under seal along with a motion for protective order. The motion is being addressed in a separate decision.

The transaction is schedule to be consummated on or shortly after January 3, 2010, the effective date of the exemption (30 days after the exemption is filed).

The purpose of the trackage rights is to allow CSXT to provide more efficient service to the ADM facilities, via trackage rights rather than reciprocal switching.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by December 28, 2009 (at least 7 days before the exemption becomes effective).

Pursuant to the Consolidated Appropriations Act, 2008, Public Law No. 110-161, § 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35325, must be filed with the Surface Transportation Board, 395 E Street, SW., Washington, DC 20423-0001. In addition, a copy of each pleading must be served on Louis E. Gitomer, Law Offices of Louis E. Gitomer, LLC, 600 Baltimore Avenue, Suite 301, Towson, MD 21204, and Steven C. Armbrust, Esq., CSX Transportation, Inc., 500 Water Street J-150, Jacksonville, FL 32202.

Board decisions and notices are available on our Web site at “http://www.stb.dot.gov.”

Decided: December 14, 2009.
By the Board, Rachel D. Campbell, Director, Office of Proceedings.
Kulunie L. Cannon,
Clearance Clerk.

[FR Doc. E9-30082 Filed 12-17-09; 8:45 am]

BILLING CODE 4915-01-P